DEPARTMENT OF COMMERCE

National Oceanic and Atmospheric Administration

50 CFR Part 679

[Docket No. 000211040-0040-01; I.D. 102400C]

Fisheries of the Exclusive Economic Zone Off Alaska; Pacific Cod in the Bering Sea and Aleutian Islands Management Area

AGENCY: National Marine Fisheries Service (NMFS), National Oceanic and Atmospheric Administration (NOAA), Commerce.

ACTION: Reallocation.

SUMMARY: NMFS is reallocating the projected unused amount of Bering Sea and Aleutian Islands management area (BSAI) Pacific cod from trawl catcher/processors and vessels using jig gear to vessels using hook-and-line or pot gear. These actions are necessary to allow the 2000 total allowable catch (TAC) of Pacific cod to be harvested.

DATES: Effective October 27, 2000.

FOR FURTHER INFORMATION CONTACT: Andrew N. Smoker, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(c)(5), the Pacific cod TAC for the BSAI was established as 193,000 metric tons (mt) by the Final 2000 Harvest Specifications for Groundfish for the BSAI (65 FR 8282, February 18, 2000). Of this amount, 3,571 mt was allocated to vessels using jig gear, 41,953 mt to trawl catcher vessels, 41,953 mt to trawl catcher/processors, and 91,048 mt to vessels using hook-and-line or pot gear.

On October 2, 2000, NMFS published a request for public comment on a proposed reallocation of 9,000 mt of BSAI Pacific cod from trawl catcher/processors to vessels using hook-and line or pot gear (65 FR 58727). One written comment was received in support of the reallocation. From the years 1997 through 1999 after September 1, the trawl catcher vessel sector of the fishery took about 200 mt or less per year in the Pacific cod target and averaged about 800 mt of catch of Pacific cod in all targets. Current inseason data support a projection of 800 mt for the catcher vessel sector. At this time, no evidence exists that the trawl catcher vessel effort in the Pacific cod fishery will increase beyond what has occurred on the average during the last 3 years.

Accordingly, the Administrator, Alaska Region, NMFS (Regional Administrator), has determined that trawl catcher/processors will not be able to harvest 9,000 mt of Pacific cod allocated to those vessels under § 679.20(a)(7)(i)(A).

Therefore, in accordance with § 679.20(a)(7)(ii)(C), NMFS apportions 9,000 mt of Pacific cod from trawl catcher/processors to vessels using hook-and-line or pot gear.

The Regional Administrator also has determined that vessels using jig gear will not harvest 3,000 mt of Pacific cod by the end of the year. Therefore, in accordance with § 679.20(a)(7)(ii)(C), NMFS is reallocating the unused amount of 3,000 mt of Pacific cod allocated to vessels using jig gear to vessels using hook-and-line or pot gear.

In accordance with § 679.20(a)(7)(ii)(C)(2), the combined reallocation of unused Pacific cod from jig gear and trawl catcher/processors, 12,000 mt is apportioned so that catcher/processor vessels using hook-and-line gear will receive 95 percent and vessels using pot gear will receive 5 percent of the reallocation. The harvest specifications for Pacific cod established in the Final 2000 Harvest Specifications for Groundfish for the BSAI (65 FR 8282, February 18, 2000) and adjusted for hook-and-line or pot gear under Amendment 64 to the FMP (65 FR 51553, August 24, 2000) are revised as follows: 571 mt to vessels using jig gear, 41,953 mt to trawl catcher vessels, 32,953 mt to trawl catcher/processors, 81,958 mt to vessels using hook-and-line gear, and 17,170 mt to pot gear.

Classification

This action is taken under 50 CFR 679.20 and is exempt from Office of Management and Budget review under Executive Order 12866.

The Assistant Administrator for Fisheries, NOAA, has determined, under 5 USC 553(b)(3)(B) and 50 CFR 679.20(b)(3)(iii)(A), that good cause exists for waiving the opportunity for public comment as such procedures would be unnecessary and contrary to the public interest. Fisheries are currently taking place that will be supplemented by this apportionment. Delaying the implementation of this action would be disruptive and costly to these ongoing operations. Similarly, pursuant to 5 USC 553(d)(3), good cause exists to waive the 30-day delay in effectiveness of this action.

Authority: 16 U.S.C. 1801 et seq.

Dated: October 27, 2000.
Bruce C. Morehead,
Acting Director, Office of Sustainable Fisheries, National Marine Fisheries Service.

[FR Doc. 00-28023 Filed 10-27-00; 2:41 pm]

BILLING CODE 3510-22-S